U.S.-CHINA ECONOMIC AND SECURITY REVIEW COMMISSION

Notice of Open Public Hearing

AGENCY: U.S.-China Economic and Security Review Commission.

ACTION: Notice of open public hearing—July 17, 2006, Dearborn, Michigan.

SUMMARY: Notice is hereby given of the following hearing of the U.S.-China Economic and Security Review Commission.

Name: Larry M. Wortzel, Chairman of the U.S.-China Economic and Security Review Commission.

The Commission is mandated by Congress to investigate, assess, evaluate and report to Congress annually on the U.S.-China economic and security relationship. The mandate specifically charges the Commission to investigate the “qualitative and quantitative nature of the transfer of United States production activities to the People's Republic of China, including the relocation of high technology, manufacturing, and research and development facilities, the impact of such transfers on United States national security, the adequacy of United States export control laws, and the effect of such transfers on United States economic security and employment.” Pursuant to this mandate, the Commission will hold a public hearing in Dearborn, Michigan on July 17, 2006.

Background

This event is the fifth in a series of public hearings the Commission will hold during its 2006 report cycle to collect input from leading experts in academia, business, industry, government and the public on the impact of the economic and national security implications of the U.S. growing bilateral trade and economic relationship with China. The July 17 hearing is being conducted to obtain commentary about issues connected to the impact of Chinese manufacturing on U.S. auto and auto parts industries from representatives of labor and trade associations, industry auto parts manufacturers and auto assemblers. Information on upcoming hearings, as well as transcripts of past Commission hearings, can be obtained from the USCC Web site http://www.uscc.gov.

This hearing will address “Impact of Chinese Manufacturing on U.S. Auto and Auto Parts Industries” and will be Co-chaired by Commissioners George Becker and Daniel Blumenthal.

Purpose of Hearing

The hearing is designed to assist the Commission in fulfilling its mandate by examining the likely effects on the U.S. industry of China's rapid build-up in automotive production and the resulting global overcapacity. The hearing will also highlight how such factors negatively or positively affect U.S. companies, investors, and workers.

Copies of the hearing agenda will be made available on the Commission's Web site http://www.uscc.gov. Any interested party may file a written statement by July 17, 2006, by mailing to the contact below. The hearing will be held in two sessions, one in the morning and one in the afternoon, where Commissioners will take testimony from invited witnesses. There will be a question and answer period between the Commissioners and the witnesses. Public participation is invited during the open-microphone session for public comment at the conclusion of the afternoon session. Sign-up for open-microphone session will take place in the morning beginning at 8:30 a.m. and will be on first come, first served basis. Each individual or group making an oral presentation will be limited to a total of 3 minutes. Because of time constraints, parties with common interests are encouraged to designate a single speaker to represent their views.

Date and Time: Monday, July 17, 2006, 8:45 a.m. to 4 p.m. Eastern Standard Time. A detailed agenda for the hearing will be posted to the Commission's Web site at http://www.uscc.gov in the near future.

ADDRESSES: The hearing will be held at University of Michigan, Dearborn Campus located at 19000 Hubbard Drive, Fairlane Center South, Dearborn, Michigan 48126. Public seating is limited to about 75 people on a first come, first serve basis. Advance reservations are not required.

FOR FURTHER INFORMATION CONTACT: Any member of the public wishing further information concerning the hearing should contact Kathy Michels, Associate Director for the U.S.-China Economic and Security Review Commission, 444 North Capitol Street, NW., Suite 602, Washington DC 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: June 28, 2006.
Kathleen J. Michels,
Associate Director, U.S.-China Economic and Security Review Commission.

[FR Doc. E6-10348 Filed 6-30-06; 8:45 am]

BILLING CODE 1137-00-P